DEPARTMENT OF HEALTH AND HUMAN SERVICES

Office of the National Coordinator for Health Information Technology; American Health Information Community Personalized Healthcare Workgroup

ACTION: Announcement of meeting.

SUMMARY: This notice announces the first meeting of the American Health Information Community Personalized Healthcare Workgroup in accordance with the Federal Advisory Committee Act (Pub. L. 92-463, 5 U.S.C., App.)

DATES: January 4, 2007 from 1 p.m. to 4 p.m., EST.

ADDRESSES: Mary C. Switzer Building (330 C Street, SW., Washington, DC 20201), Conference Room 4090. (You will need a photo ID to enter a Federal building.)

FOR FURTHER INFORMATION CONTACT: http://www.hhs.gov/healthit/ahic/workgroups.html.

SUPPLEMENTARY INFORMATION: At this inaugural meeting, the Workgroup members will be introduced and will introduced and will begin discussion of the charges to the group on making recommendations to the American Health Information Community.

The meeting will be available via internet access. Go to http://www.hhs.gov/healthit/ahic/workgroups.html for additional information on the meeting.

Dated: December 14, 2006.
Judith Sparrow,
Director, American Health Information Community, Office of Programs and Coordination, Office of the National Coordinator for Health Information Technology.

[FR Doc. 06-9803 Filed 12-20-06; 8:45 am]

BILLING CODE 4150-24-M